DEPARTMENT OF THE INTERIOR

Bureau of Land Management

[WY-040-06-1610-DU]

Notice of Availability of Record of Decision for Environmental Impact Statement and Resource Management Plan Amendments

AGENCY: Bureau of Land Management, Interior.

ACTION: Notice of availability of Record of Decision (ROD) for the Wyoming Environmental Impact Statement (EIS) for the Powder River Basin Oil and Gas Project and Plan Amendments to the Buffalo Resource Management Plan (RMP) (1985), Platte River RMP (1985) and Thunder Basin National Land and Resource Management Plan (LRMP) (Forest Service 2002); Johnson, Sheridan, Campbell, and Converse Counties, Wyoming.

SUMMARY: In accordance with the National Environmental Policy Act of 1969 and the Federal Land Policy and Management Act of 1976, the Bureau of Land Management (BLM) announces the availability of the ROD for the Wyoming EIS for the Powder River Basin Oil and Gas Project and Plan Amendments to the Buffalo RMP (1985), Platte River RMP (1985) and Thunder Basin National Land and Resource Management Plan (LRMP) (Forest Service 2002). The Forest Service and the State of Wyoming (Wyoming Department of Environmental Quality) were cooperating agencies in preparing the EIS.

ADDRESSES: The document will be available electronically on the following Web site: http://www.prb-eis.org. Copies of the ROD are available for public inspection at the following BLM office locations:

Bureau of Land Management, Wyoming State Office, 5353 Yellowstone Road, Cheyenne, Wyoming 82003.

Bureau of Land Management, Buffalo Field Office, 1425 Fort Street, Buffalo, Wyoming 82834.

Bureau of Land Management, Casper Field Office, 2987 Prospector Drive, Casper, Wyoming 82604-2968.

FOR FURTHER INFORMATION: Contact Mr. Paul Beels, Project Manager, 1425 Fort Street, Buffalo, WY 82834, or paul_beels@blm.gov. Mr. Beels may also be reached at 307-684-1168.

SUPPLEMENTARY INFORMATION: A copy of the ROD has been sent to affected Federal, State, and local government agencies and to interested parties. The project area includes almost 8,000,000 acres in northeastern Wyoming, encompassing all of Johnson, Campbell, and Sheridan Counties (except the Bighorn National Forest System lands) and the northern portion of Converse County. The public lands and Federal mineral resources analyzed include all of those administered by the BLM Buffalo Field Office and a small portion that is administered by the BLM Casper Field Office. The mineral resources analyzed also include the Federal oil and gas underlying the National Forest System lands and surface resources in the Thunder Basin National Grassland, administered by the Forest Service.

Dated: April 15, 2003.
Alan L. Kesterke,
Associate State Director.

[FR Doc. 03-10718 Filed 4-29-03; 8:45 am]

BILLING CODE 4310-22-P